DEPARTMENT OF STATE

[Public Notice 6466]

Determination on U.S. Position on Proposed International Monetary Fund (IMF) Project: Precautionary Stand-By Arrangement

Pursuant to section 658 of the Department of State, Foreign Operations, and Related Programs Appropriations Act, 2008 (Div. J, Pub. L. 110-161) (SFOAA), and Department of State Delegation of Authority Number 312, I hereby determine that the IMF's proposed Precautionary Stand-By Arrangement for strengthening Serbia's fiscal discipline and furthering its structural reform agenda will help facilitate a smooth balance of payments adjustment and promote good macroeconomic policies during the global financial crisis, leading to sustainable development and economic integration in the region and contribute to a stronger economy in Serbia, directly supporting implementation of the Dayton Accords. I therefore waive the application of Section 658 of the SFOAA to the extent that provision would otherwise prevent the U.S. Executive Directors of the IMF from voting in favor of these projects.

This Determination shall be reported to the Congress and published in the Federal Register.

Dated: December 2, 2008.
Judith Garber,
Assistant Secretary of State, Acting for European and Eurasian Affairs, Department of State.

[FR Doc. E8-30574 Filed 12-22-08; 8:45 am]

BILLING CODE 4710-23-P